NATIONAL SCIENCE FOUNDATION

Sunshine Act Meeting

Agency Holding Meeting: National Science Foundation National Science Board and its Subdivisions.

Date and Time: March 1, 2005 11 a.m.-12 Noon.

Place: Room 545, Stafford II, The National Science Foundation, 4201 Wilson Boulevard, Arlington, VA 22230, http://www.nsf.gov/nsb.

Contact for Information: Michael P. Crosby, Executive Officer, NSB (703) 292-7000.

Status: This meeting will be open to the public.

Matters To Be Considered:

Tuesday, March 1, 2005

• General discussion: Charge to the Task Force on Transformative Research

• Initial ideas to implement Charge

Michael P. Crosby,
Executive Officer, NSB.

[FR Doc. 05-4099 Filed 2-28-05; 12:07 pm]

BILLING CODE 7555-01-M